DEPARTMENT OF COMMERCE

National Oceanic and Atmospheric Administration

50 CFR Part 679

[Docket No. 041126333-5040-02; I.D. 022305D]

Fisheries of the Exclusive Economic Zone Off Alaska; Prohibiting Directed Fishing for Specified Groundfish Fisheries in the Gulf of Alaska

AGENCY: National Marine Fisheries Service (NMFS), National Oceanic and Atmospheric Administration (NOAA), Commerce.

ACTION: Closure.

SUMMARY: NMFS is prohibiting directed fishing for Pacific cod by specified sectors in the Western and Central Regulatory Areas of the Gulf of Alaska (GOA). This action is necessary to prevent exceeding the 2005 A season allowances of the Pacific code total allowable catch (TAC) specified for Pacific cod in the GOA.

DATES: Effective February 24, 2005, through 12 noon, Alaska local time, September 1, 2005.

FOR FURTHER INFORMATION CONTACT: Josh Keaton, 907-586-7228.

SUPPLEMENTARY INFORMATION: NMFS manages the groundfish fishery in the GOA exclusive economic zone according to the Fishery Management Plan for Groundfish of the Gulf of Alaska (FMP) prepared by the North Pacific Fishery Management Council under authority of the Magnuson-Stevens Fishery Conservation and Management Act. Regulations governing fishing by U.S. vessels in accordance with the FMP appear at subpart H of 50 CFR part 600 and 50 CFR part 679.

In accordance with § 679.20(d)(1)(i), the Administrator, Alaska Region, NMFS (Regional Administrator), has determined that if the amount of a target species apportioned to a fishery or, with respect to Pacific cod, to an inshore or offshore component allocation, will be reached, the Regional Administrator may establish a directed fishing allowance for that species or species group.

As established by the 2005 and 2006 final harvest specifications for groundfish of the GOA (70 FR 8958, February 24, 2005), the 2005 A season allowance of the Pacific cod TAC for vessels catching Pacific cod for processing by the inshore component in the Western Regulatory Area of the GOA is 8,471 metric tons (mt); for processing by the offshore component in the Western Regulatory Area of the GOA is 941 mt; and for processing by the offshore component of the Central Regulatory Area of the GOA is 1,505 mt. See § 679.20(c)(1)(iii), § 679.20(c)(4)(ii), and § 679.20(a)(11).

In accordance with 679.20(d)(1)(iii), the Regional Administrator has determined that the A season directed fishing allowances for Pacific cod by vessels catching Pacific cod for processing by the inshore component in the Western Regulatory Area of the GOA, Pacific cod by vessels catching Pacific cod for processing by the offshore component in the Western Regulatory Area of the GOA, and Pacific cod by vessels catching Pacific cod for processing by the offshore component of the Central Regulatory Area of the GOA have been reached and the remaining amounts of the A season TAC allowances are necessary as bycatch to support other anticipated groundfish fisheries until the next seasonal apportionments of Pacific cod become available September 1, 2005. Consequently, NMFS is prohibiting directed fishing for these fisheries.

After the effective date of this closure the maximum retainable amounts at § 679.20(e) and (f) apply at any time during a trip.

Classification

This action responds to the best available information recently obtained from the fishery. The Assistant Administrator for Fisheries, NOAA (AA), finds good cause to waive the requirement to provide prior notice and opportunity for public comment pursuant to the authority set forth at 5 U.S.C. 553(b)(B) as such requirement is impracticable and contrary to the public interest. This requirement is impracticable and contrary to the public interest as it would prevent NMFS from responding to the most recent fisheries data in a timely fashion and would delay the closures of the directed fisheries for Pacific cod for specified sectors in the Western and Central Regulatory Areas of the GOA.

The AA also finds good cause to waive the 30 day delay in the effective date of this action under 5 U.S.C. 553(d)(3). This finding is based upon the reasons provided above for waiver of prior notice and opportunity for public comment.

This action is required by § 679.20 and is exempt from review under Executive Order 12866.

Authority: 16 U.S.C. 1801 et seq.

Dated: February 23, 2005.
Alan D. Risenhoover
Acting Director, Office of Sustainable Fisheries, National Marine Fisheries Service.

[FR Doc. 05-3934 Filed 2-24-05; 2:33 pm]

BILLING CODE 3510-22-S